DEPARTMENT OF HOUSING AND URBAN DEVELOPMENT

[Docket No. FR-5603-N-65]

Notice of Proposed Information Collection to OMB and Comment Request: Legal Instructions Concerning Applications for Full Insurance Benefits; Assignment of Multifamily Mortgages to the Secretary

AGENCY: Office of the Chief Information Officer, HUD.

ACTION: Notice.

SUMMARY: The proposed information collection requirement described below has been submitted to the Office of Management and Budget (OMB) for review, as required by the Paperwork Reduction Act. The Department is soliciting public comments on the subject proposal for a period of 30 days. This notice also corrects an error that was in the 60-day notice published on July 12, 2012.

Mortgagees of HUD-insured mortgages may receive mortgage insurance benefits upon assignment of mortgages to HUD. In connection with the assignment, legal documents (e.g., mortgage, mortgage note, security agreement, title insurance policy) must be submitted to the Department. The instructions describe the document submitted to OMB and the procedures for submission.

DATES: Comments Due Date: October 18, 2012.

ADDRESSES: Interested persons are invited to submit comments regarding this proposal. Comments should refer to the proposal by name and/or OMB Control Number (2510-0006) and should be sent to: HUD Desk Office of Management and Budget, New Executive Office Building, Washington, DC 20503; fax 202-395-5806. OIRA Submission@omb.eop.gov

FOR FURTHER INFORMATION CONTACT: Colette Pollard, Reports Management Officer, QDAM, Department of Housing and Urban Development, 451 7th Street SW., Washington, DC 20410; email Colette Pollard at Colette.Pollard@hud.gov. or telephone (202) 402-3400. This is not a toll-free number. Copies of instruction submitted to OMB may be obtained from Ms. Pollard.

SUPPLEMENTARY INFORMATION: This notice informs the public that, as required by the Paperwork Reduction Act of 1995 (44 U.S.C. Chapter 35, as amended) the Department of Housing and Urban Development has submitted to OMB a request for approval of the Information collection described below.

This notice is soliciting comments for an additional period of 30 days from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

The first notice pertaining to this information collection, referred to as the 60-day notice, published in the Federal Register on July 12, 2012, at 77 FR 41197. The notice set out the revisions that HUD proposed to the legal instructions and also presented the proposed number of respondents and burden hours. Although HUD received no comments in response to the July 12, 2012, notice, HUD identified an error. The number of respondents was incorrect. The 60-day notice listed respondents as 359. This number was incorrect. The correct number is 128. This notice published today provides the correct information and also provides the following information:

Title of Proposal: Legal Instructions Concerning Applications for Full Insurance Benefits—Assignment of Multifamily Mortgage to the Secretary.

OMB Control Number, if applicable: 2510-0006.

Agency form numbers, if applicable: N/A.

Members of affected public: Mortgagees when applying for insurance benefits from HUD.

Description of the Need for the Information and its Proposed Use. Mortgagees of HUD-insured mortgages may receive mortgage insurance benefits upon assignment of mortgages to HUD. In connection with the assignment, legal documents (e.g., mortgage, mortgage note, security agreement, title insurance policy) must be submitted to the Department. The instructions describe the document submitted to OMB and the procedures for submission.

Estimation of the total numbers of hours needed to prepare the information collection including number of respondents, frequency of response, and hours of response:

Number of respondents | Burden hours | Frequency of response | Total burden hours
128 | 26 | 1 | 3,328

Status of the proposed information collection: Extension of a currently approved collection.

Authority: The Paperwork Reduction Act of 1995, 44 U.S.C. Chapter 35, as amended.

Dated: September 13, 2012.
Colette Pollard,
Department Reports Management Officer Office of the Chief Information Officer.

[FR Doc. 2012-22984 Filed 9-17-12; 8:45 am]

BILLING CODE 4210-67-P